DEPARTMENT OF ENERGY

10 CFR Part 430

[Docket No. EERE-2013-BT-STD-0051]

RIN 1904-AD09

Energy Efficiency Program for Consumer Products: Energy Conservation Standards for General Service Lamps

AGENCY: Office of Energy Efficiency and Renewable Energy, Department of Energy.

ACTION: Extension of public comment period.

SUMMARY: This document announces an extension of the public comment period for submitting comments on the framework document regarding energy conservation standards for general service lamps (GSLs). The comment period is extended to February 7, 2014.

DATES: The comment period for the framework document regarding energy conservation standards for GSLs published on December 9, 2013 (78 FR 73737) is extended to February 7, 2014.

ADDRESSES: Any comments submitted must identify the framework for standards for general service lamps and provide docket number EERE-2013-BT-STD-0051 and/or Regulation Identification Number (RIN) 1904-AD09 by any of the following methods:

• Federal eRulemaking Portal: http://www.regulations.gov. Follow the instructions for submitting comments.

• Email: GSL2013STD0051@ee.doe.gov. Include the docket number EERE-2013-BT-STD-0051 and/or RIN 1904-AD09 in the subject line of the message.

• Mail: Ms. Brenda Edwards, U.S. Department of Energy, Building Technologies Office, Mailstop EE-5B, 1000 Independence Avenue SW., Washington, DC 20585-0121. If possible, please submit all items on a compact disc (CD), in which case it is not necessary to include printed copies. [Please note that comments and CDs sent by mail are often delayed and may be damaged by mail screening processes.]

• Hand Delivery/Courier: Ms. Brenda Edwards, U.S. Department of Energy, Building Technologies Program, 950 L'Enfant Plaza SW., Suite 600, Washington, DC 20024. Telephone (202) 586-2945. If possible, please submit all items on CD, in which case it is not necessary to include printed copies.

Docket: The docket is available for review at www.regulations.gov, including Federal Register notices, framework documents, public meeting attendee lists and transcripts, comments, and other supporting documents/materials. All documents in the docket are listed in the www.regulations.gov index. However, not all documents listed in the index may be publicly available, such as information that is exempt from public disclosure.

The rulemaking Web page can be found at: http://www1.eere.energy.gov/buildings/appliance_standards/rulemaking.aspx?ruleid=83. This Web page contains links to the framework document and other supporting materials and information for this rulemaking on the regulations.gov site. The regulations.gov Web page contains instructions on how to access all documents in the docket, including public comments.

FOR FURTHER INFORMATION CONTACT: Ms. Lucy deButts, U.S. Department of Energy, Office of Energy Efficiency and Renewable Energy, Building Technologies Office, EE-5B, 1000 Independence Avenue SW., Washington, DC 20585-0121. Telephone: (202) 287-1604. Email: GSL2013STD0051@ee.doe.gov.

Ms. Celia Sher, U.S. Department of Energy, Office of the General Counsel, GC-71, 1000 Independence Avenue SW., Washington, DC 20585-0121. Telephone: (202) 287-6122. Email: Celia.Sher@hq.doe.gov.

SUPPLEMENTARY INFORMATION:

On December 9, 2013, DOE published a notice of public meeting and availability of framework document in the Federal Register (78 FR 73737) initiating the rulemaking and data collection process to consider new and amended energy conservation standards for products included in the definition of GSLs. The notice provided for the submission of public comments by January 23, 2014. National Electrical Manufacturers Association (NEMA) has requested a 2-week extension of the comment period, stating that it needs additional time to fully evaluate the framework document, its scope and definitions.

Based on NEMA's request, DOE believes that extending the comment period to allow additional time for interested parties to submit comments is appropriate. Therefore, DOE is extending the comment period until February 7, 2014 to provide interested parties additional time to prepare and submit comments. Accordingly, DOE will consider any comments received by February 7, 2014 to be timely submitted.

Issued in Washington, DC on January 16, 2014.
Kathleen B. Hogan,
Deputy Assistant Secretary for Energy Efficiency, Energy Efficiency and Renewable Energy.

[FR Doc. 2014-01294 Filed 1-22-14; 8:45 am]

BILLING CODE 6450-01-P